SECURITIES AND EXCHANGE COMMISSION

Submission for OMB Review; Comment Request

Upon Written Request Copies Available From: Securities and Exchange Commission, Office of Investor Education and Advocacy, Washington, DC 20549-0213.

Extension:

Voluntary XBRL-Related Documents; SEC File No. 270-550, OMB Control No. 3235-0611.

Notice is hereby given that, under the Paperwork Reduction Act of 1995 (44 U.S.C. 3501 et seq.) (“Paperwork Reduction Act”), the Securities and Exchange Commission (the “Commission”) has submitted to the Office of Management and Budget (“OMB”) a request for extension of the previously approved collection of information discussed below.

As part of our evaluation of the potential of interactive data tagging technology, the Commission permits registered investment companies (“funds”) to submit on a voluntary basis specified financial statement and portfolio holdings disclosure tagged in eXtensible Business Reporting Language (“XBRL”) format as an exhibit to certain filings on the Commission's Electronic Data Gathering, Analysis and Retrieval System (“EDGAR”). The current voluntary program permits any fund to participate merely by submitting a tagged exhibit in the required manner. These exhibits are publicly available but are considered furnished rather than filed. The purpose of the collection of information is to help evaluate the usefulness of data tagging and XBRL to registrants, investors, the Commission, and the marketplace.

We estimate that no funds participate in the voluntary program each year. This information collection, therefore, imposes no time burden; however, we are requesting a one hour burden for administrative purposes. We also estimate that the information collection imposes no cost burden.

Estimates of the average burden hours and costs are made solely for the purposes of the Paperwork Reduction Act and are not derived from a comprehensive or even representative survey or study of the costs of Commission rules and forms. Participation in the program is voluntary. Submissions under the program will not be kept confidential. An agency may not conduct or sponsor, and a person is not required to respond to, a collection of information unless it displays a currently valid OMB control number.

The public may view the background documentation for this information collection at the following Web site: www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Thomas Bayer, Director/Chief Information Officer, Securities and Exchange Commission, c/o Remi Pavlik-Simon, 6432 General Green Way, Alexandria, VA 22312; or send an email to: PRA_Mailbox@sec.gov. Comments must be submitted to OMB within 30 days of this notice.

Dated: October 29, 2012.
Kevin M. O'Neill,
Deputy Secretary.

[FR Doc. 2012-27138 Filed 11-6-12; 8:45 am]

BILLING CODE 8011-01-P